DEPARTMENT OF THE TREASURY

Office of Foreign Assets Control

Notice of OFAC Sanctions Actions

SUB-AGENCY: Office of Foreign Assets Control, Treasury.

ACTION: Notice.

SUMMARY: The Department of the Treasury's Office of Foreign Assets Control (OFAC) is publishing the names of one or more persons that have been placed on OFAC's Specially Designated Nationals and Blocked Persons List pursuant to Executive Order 13582 of August 17, 2011, “Blocking Property of the Government of Syria and Prohibiting Certain Transactions With Respect to Syria.” All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The list of Specially Designated Nationals and Blocked Persons (SDN List) and additional information concerning OFAC sanctions programs are available on OFAC's website (http://www.treasury.gov/ofac).

Notice of OFAC Actions

On September 5, 2018, OFAC determined that the property and interests in property subject to U.S. jurisdiction of the following persons are blocked under the relevant sanctions authorities listed below.

Individuals

1. ‘ABBAS, Yasir (a.k.a. ‘ABBAS, Yasir 'Aziz); DOB 22 Aug 1978; nationality Syria; Gender Male (individual) [SYRIA].

Designated pursuant to section 1(b)(i) of Executive Order 13582 of August 17, 2011, “Blocking Property of the Government of Syria and Prohibiting Certain Transactions With Respect to Syria” (E.O. 13582) for having materially assisted, sponsored, or provided financial, material, or technological support for, or goods or services in support of, the GOVERNMENT OF SYRIA, an entity whose property and interests in property are blocked pursuant to E.O. 13582.

2. AL-ALI, Adnan (a.k.a. AL ALI, Adnan; a.k.a. AL-‘ALI, 'Adnan), Baniyas, Syria; DOB 17 Jun 1968; POB Lattakia, Syria; nationality Syria; Gender Male; Passport 6066827 (Syria) expires 09 Mar 2017 (individual) [SYRIA] (Linked To: ABAR PETROLEUM SERVICE SAL).

Designated pursuant to section 1(b)(i) of E.O. 13582 for having materially assisted, sponsored, or provided financial, material, or technological support for, or goods or services in support of, ABAR PETROLEUM SERVICE SAL, an entity whose property and interests in property are blocked pursuant to E.O. 13582.

3. AL-QATIRJI, Muhammad (a.k.a. AL-QATIRJI, Bara'; a.k.a. KATARJI, Bara'; a.k.a. KHATARJI, Bara Ahmad; a.k.a. KHATIRJI, Bara Ahmad; a.k.a. QATARJI, Abu al-Bara'; a.k.a. QATIRJI, Muhammad Bara'; a.k.a. QATIRJI, Muhammad Bara; a.k.a. QATIRJI, Muhammad Bara Ahmad Rushdi; a.k.a. QATRJI, Muhammad Nur al-Din; a.k.a. “Abu Bara”); DOB 10 Nov 1976; POB Raqqah; nationality Syria; Gender Male; National ID No. 11010046398 (Syria); Registration Number 11824466 (Syria) (individual) [SYRIA].

Designated pursuant to section 1(b)(i) of E.O. 13582 for having materially assisted, sponsored, or provided financial, material, or technological support for, or goods or services in support of, the GOVERNMENT OF SYRIA, an entity whose property and interests in property are blocked pursuant to E.O. 13582.

4. NASSER, Fadi Nabih (a.k.a. NASSER, Fadi), Nasser Building, Menchieh Area, Bourj Brajneh (Baabda), Lebanon; DOB 19 Nov 1963; nationality Lebanon; Gender Male; Passport RL2432659 (Lebanon) issued 22 Jan 2013 expires 22 Jan 2018; alt. Passport RL1239879 (Lebanon) expires 05 Mar 2013; Chairman of Nasco Polymers & Chemicals Co. Sal (Off-shore) (individual) [SYRIA] (Linked To: NASCO POLYMERS & CHEMICALS CO SAL (OFF-SHORE); Linked To: SYRIAN COMPANY FOR OIL TRANSPORT).

Designated pursuant to section 1(b)(i) of E.O. 13582 for having materially assisted, sponsored, or provided financial, material, or technological support for, or goods or services in support of, SYRIAN COMPANY FOR OIL TRANSPORT, an entity identified as meeting the definition of the GOVERNMENT OF SYRIA as set forth in section 8(d) of E.O. 13582 and section 542.305 of the Syrian Sanctions Regulations, 31 CFR part 542.

Also designated pursuant to section 1(b)(ii) of E.O. 13582 for having acted or purported to act for or on behalf of, directly or indirectly, NASCO POLYMERS & CHEMICALS CO SAL (OFF-SHORE), an entity whose property and interests in property are blocked pursuant to E.O. 13582.

Entities

1. ABAR PETROLEUM SERVICE SAL (a.k.a. ABAR PETROLEUM SERVICE SAL (OFFSHORE); a.k.a. ABAR PETROLEUM SERVICES LTD SAL (OFFSHORE)), Azarieh Building, Block 03, 5th floor, Azarieh Street, Beirut, Lebanon [SYRIA].

Designated pursuant to section 1(b)(i) of E.O. 13582 for having materially assisted, sponsored, or provided financial, material, or technological support for, or goods or services in support of, the GOVERNMENT OF SYRIA, an entity whose property and interests in property are blocked pursuant to E.O. 13582.

2. AL-QATIRJI COMPANY (a.k.a. AL-SHAM AND AL-DARWISH COMPANY; a.k.a. KHATIRJI GROUP), Mazzah, Damascus, Syria [SYRIA].

Designated pursuant to section 1(b)(i) of E.O. 13582 for having materially assisted, sponsored, or provided financial, material, or technological support for, or goods or services in support of, the GOVERNMENT OF SYRIA, an entity whose property and interests in property are blocked pursuant to E.O. 13582.

3. INTERNATIONAL PIPELINE CONSTRUCTION FZE, Fujairah, United Arab Emirates [SYRIA] (Linked To: HESCO ENGINEERING & CONSTRUCTION CO).

Designated pursuant to section 1(b)(i) of E.O. 13582 for having materially assisted, sponsored, or provided financial, material, or technological support for, or goods or services in support of, HESCO ENGINEERING & CONSTRUCTION CO, an entity whose property and interests in property are blocked pursuant to E.O. 13582.

Also designated pursuant to section 1(b)(ii) of E.O. 13582 for being owned or controlled by HESCO ENGINEERING & CONSTRUCTION CO, an entity whose property and interests in property are blocked pursuant to E.O. 13582.

4. NASCO POLYMERS & CHEMICALS CO SAL (OFF-SHORE) (a.k.a. NASCO POLYMERS & CHEMICALS; a.k.a. NASCO POLYMERS AND CHEMICALS), 2nd Floor, Nasco Center, Unesco Street, Unesco Sector, Beirut, Lebanon; Postal Box 1800629, Beirut, Lebanon; 2nd Flr, Unesco Center, Verdun Street, Beirut, Lebanon; website www.nascopolymers.com; Registration Number 1800629; International Maritime Organization No. (5777731) [SYRIA] (Linked To: SYRIAN COMPANY FOR OIL TRANSPORT).

Designated pursuant to section 1(b)(i) of E.O. 13582 for having materially assisted, sponsored, or provided financial, material, or technological support for, or goods or services in support of, SYRIAN COMPANY FOR OIL TRANSPORT, an entity identified as meeting the definition of the GOVERNMENT OF SYRIA as set forth in section 8(d) of E.O. 13582 and section 542.305 of the Syrian Sanctions Regulations, 31 CFR part 542.

5. SONEX INVESTMENTS LTD. (a.k.a. SONEX INVESTMENTS LIMITED; a.k.a. SONNEX INVESTMENTS LTD.), P.O. Box 7191, Dubai, United Arab Emirates [SYRIA] (Linked To: SYRIAN COMPANY FOR OIL TRANSPORT).

Designated pursuant to section 1(b)(i) of E.O. 13582 for having materially assisted, sponsored, or provided financial, material, or technological support for, or goods or services in support of, SYRIAN COMPANY FOR OIL TRANSPORT, an entity identified as meeting the definition of the GOVERNMENT OF SYRIA as set forth in section 8(d) of E.O. 13582 and section 542.305 of the Syrian Sanctions Regulations, 31 CFR part 542.

Dated: September 6, 2018.
Andrea M. Gacki,
Acting Director, Office of Foreign Assets Control.

[FR Doc. 2018-19819 Filed 9-11-18; 8:45 am]

BILLING CODE 4810-AL-P